ENVIRONMENTAL PROTECTION AGENCY

[EPA-HQ-OPP-2007-0307; FRL-8143-6]

Pesticide Emergency Exemptions; Agency Decisions and State and Federal Agency Crisis Declarations

AGENCY: Environmental Protection Agency (EPA).

ACTION: Notice.

SUMMARY: EPA has granted or denied emergency exemptions under the Federal Insecticide, Fungicide, and Rodenticide Act (FIFRA) for use of pesticides as listed in this notice. The exemptions or denials were granted during the period January 1, 2007 to March 31, 2007 to control unforeseen pest outbreaks.

FOR FURTHER INFORMATION CONTACT: See each emergency exemption or denial for the name of a contact person. The following information applies to all contact persons: Team Leader, Emergency Response Team, Registration Division (7505P), Office of Pesticide Programs, Environmental Protection Agency, 1200 Pennsylvania Ave., NW., Washington, DC 20460-0001; telephone number: (703) 308-9366.

SUPPLEMENTARY INFORMATION: EPA has granted or denied emergency exemptions to the following State and Federal agencies. The emergency exemptions may take the following form: Crisis, public health, quarantine, or specific. EPA has also listed denied emergency exemption requests in this notice.

I. General Information

A. Does this Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. To determine whether you or your business may be affected by this action, you should carefully examine the applicability provisions discussed above. If you have any questions regarding the applicability of this action to a particular entity, consult the person listed under FOR FURTHER INFORMATION CONTACT.

B. How Can I Get Copies of this Document and Other Related Information?

1. Docket. EPA has established a docket for this action under docket identification (ID) number EPA-HQ-OPP-2007-0307. Publicly available docket materials are available either electronically at http://www.regulations.gov, or, if only available in hard copy, at the OPP Regulatory Public Docket in Rm. S-4400, One Potomac Yard (South Bldg.), 2777 S. Crystal Dr., Arlington, VA. The hours of operation of this Docket Facility is open from 8:30 a.m. to 4 p.m., Monday through Friday, excluding legal holidays. The Docket Facility telephone number is (703) 305-5805.

2. Electronic access. You may access this Federal Register document electronically through the EPA Internet under the Federal Register listings at http://www.epa.gov/fedrgstr.

II. Background

Under FIFRA section 18, EPA can authorize the use of a pesticide when emergency conditions exist. Authorizations (commonly called emergency exemptions) are granted to State and Federal agencies and are of four types:

1. A “specific exemption” authorizes use of a pesticide against specific pests on a limited acreage in a particular State. Most emergency exemptions are specific exemptions.

2. “Quarantine” and “public health” exemptions are a particular form of specific exemption issued for quarantine or public health purposes. These are rarely requested.

3. A “crisis exemption” is initiated by a State or Federal agency (and is confirmed by EPA) when there is insufficient time to request and obtain EPA permission for use of a pesticide in an emergency.

EPA may deny an emergency exemption: If the State or Federal agency cannot demonstrate that an emergency exists, if the use poses unacceptable risks to the environment, or if EPA cannot reach a conclusion that the proposed pesticide use is likely to result in “a reasonable certainty of no harm” to human health, including exposure of residues of the pesticide to infants and children.

If the emergency use of the pesticide on a food or feed commodity would result in pesticide chemical residues, EPA establishes a time-limited tolerance meeting the “reasonable certainty of no harm standard” of the Federal Food, Drug, and Cosmetic Act (FFDCA).

In this document: EPA identifies the State or Federal agency granted the exemption or denial, the type of exemption, the pesticide authorized and the pests, the crop or use for which authorized, number of acres (if applicable), and the duration of the exemption. EPA also gives the Federal Register citation for the time-limited tolerance, if any.

III. Emergency Exemptions and Denials

A. U. S. States and Territories

Alabama

Department of Agriculture and Industries

Specific Exemptions: EPA authorized the use of coumaphos in beehives to control varroa mite and the small hive beetle); January 30, 2007 to February 1, 2008. Contact: Stacey Groce.

EPA authorized the use of sulfosulfuron on bermudagrass pastures and hayfields to control Johnsongrass (Sorghum halepense); February 16, 2007 to September 15, 2007. Contact: Libby Pemberton.

Arkansas

State Plant Board

Specific Exemption: EPA authorized the use of coumaphos in beehives to control varroa mite and the small hive beetle); January 30, 2007 to February 1, 2008. Contact: Stacey Groce.

Quarantine Exemption: EPA authorized the use of flutriafol on soybeans to control soybean rust; February 12, 2007 to February 12, 2010. Contact: Princess Campbell.

California

Environmental Protection Agency, Department of Pesticide Regulation

Specific Exemptions: EPA authorized the use of coumaphos in beehives to control varroa mite and the small hive beetle); January 30, 2007 to February 1, 2008. Contact: Stacey Groce.

EPA authorized the use of maneb on walnuts to control bacterial blight; March 1, 2007 to June 15, 2007. Contact: Libby Pemberton.

EPA authorized the use of tebuconazole on garlic to control garlic rust (Puccinia Porr -P. alli); March 2, 2007 to July 3, 2007. Contact: Libby Pemberton.

EPA authorized the use of thiamethoxam on artichokes to control proba bugs; March 1, 2007 to February 28, 2008. Contact: Stacey Groce.

EPA authorized the uses of propiconazole on peach and nectarine, post-harvest, to control sour rot (Geotricum candidum); May 15, 2007 to September 30, 2007. Contact: Andrea Conrath.

Colorado

Department of Agriculture

Specific Exemptions: EPA authorized the use of coumaphos in beehives to control varroa mite and the small hive beetle); January 30, 2007 to February 1, 2008. Contact: Stacey Groce.

EPA authorized the use of thiophanate-methyl in mushroom cultivation, to control green mold (Trichoderma aggresivum); March 1, 2007 to March 1, 2008. Contact: Andrea Conrath.

EPA authorized the use of lambda-cyhalothrin on barley to control Russian wheat aphids, cereal leaf beetles, and cutworms; April 7, 2007 to July 15, 2007. Contact: Andrew Ertman.

Quarantine Exemption: EPA authorized the use of chlorophene in laboratories to control prions; February 2, 2007 to February 2, 2010. Contact: Princess Campbell.

Connecticut

Department of Environmental Protection

Specific Exemption: EPA authorized the use of coumaphos in beehives to control varroa mite and the small hive beetle); February 23, 2007 to February 1, 2008. Contact: Stacey Groce.

Delaware

Department of Agriculture

Specific Exemption: EPA authorized the use of thiophanate-methyl in mushroom cultivation, to control green mold (Trichoderma aggresivum); January 8, 2007 to January 8, 2008. Contact: Andrea Conrath.

Florida

Department of Agriculture and Consumer Services

Specific Exemptions: EPA authorized the use of coumaphos in beehives to control varroa mite and the small hive beetle); February 12, 2007 to February 1, 2008. Contact: Stacey Groce.

EPA authorized the use of thiophanate-methyl on citrus, to control post-bloom fruit drop (Colletotrichum acutatum) and stem end rot (Lasiodiplodia theobromae); March 2, 2007 to March 2, 2008. Contact: Andrea Conrath.

EPA authorized the use of thiophanate-methyl on fruiting vegetables, to control white mold (Sclerotinia sclerotiorum); April 12, 2007 to April 12, 2008. Contact: Andrea Conrath.

Georgia

Department of Agriculture

Specific Exemptions: EPA authorized the use of coumaphos in beehives to control varroa mite and the small hive beetle); February 5, 2007 to February 1, 2008. Contact: Stacey Groce.

EPA authorized the use of sulfosulfuron on bermudagrass and bahiagrass pastures and hayfields to control Johnsongrass (Sorghum halepense); February 16, 2007 to September 15, 2007. Contact: Libby Pemberton.

Idaho

Department of Agriculture

Specific Exemptions: EPA authorized the use of thiabendazole on lentils, to control Ascochyta blight; February 21, 2007 to June 1, 2007. Contact: Andrea Conrath.

EPA authorized the use of coumaphos in beehives to control varroa mite and the small hive beetle); February 23, 2007 to February 1, 2008. Contact: Stacey Groce.

EPA authorized the use of fenpyroximate in beehives to control varroa mites); March 22, 2007 to February 28, 2008. Contact: Stacey Groce.

EPA authorized the use of oxytetracycline on apples to control fire blight; April 1, 2007 to August 1, 2007. Contact: Andrew Ertman.

Illinois

Department of Agriculture

Specific Exemption: EPA authorized the use of coumaphos in beehives to control varroa mite and the small hive beetle); January 31, 2007 to February 1, 2008. Contact: Stacey Groce.

Indiana

Office of Indiana State Chemist

Quarantine Exemption: EPA authorized the use of flutriafol on soybeans to control soybean rust; February 12, 2007 to February 12, 2010. Contact: Princess Campbell.

Iowa

Department of Agriculture and Land Stewardship

Specific Exemption: EPA authorized the use of coumaphos in beehives to control varroa mite and the small hive beetle); March 12, 2007 to February 1, 2008. Contact: Stacey Groce.

Quarantine Exemption: EPA authorized the use of flutriafol on soybeans to control soybean rust; February 12, 2007 to February 12, 2010. Contact: Princess Campbell.

Kansas

Department of Agriculture

Quarantine Exemption: EPA authorized the use of flutriafol on soybeans to control soybean rust; February 12, 2007 to February 12, 2010. Contact: Princess Campbell.

Kentucky

Department of Agriculture

Specific Exemption: EPA authorized the use of coumaphos in beehives to control varroa mite and the small hive beetle); January 31, 2007 to February 1, 2008. Contact: Stacey Groce.

EPA authorized the use of tebuconazole on wheat to control Fusarium head blight (FHB); March 26, 2007 to May 30, 2007. Contact: Libby Pemberton.

Quarantine Exemption: EPA authorized the use of flutriafol on soybeans to control soybean rust; February 12, 2007 to February 12, 2010. Contact: Princess Campbell.

Louisiana

Department of Agriculture and Forestry

Specific Exemption: EPA authorized the use of etofenprox on rice to control rice water weevil (Lissorhoptrus oryzophilus); January 24, 2007 to January 24, 2008. Contact: Libby Pemberton.

EPA authorized the use of coumaphos in beehives to control varroa mite and the small hive beetle); February 28, 2007 to February 1, 2008. Contact: Stacey Groce.

Maryland

Department of Agriculture

Specific Exemption: EPA authorized the use of thiophanate-methyl in mushroom cultivation, to control green mold (Trichoderma aggresivum); January 8, 2007 to January 8, 2008. Contact: Andrea Conrath.

EPA authorized the use of coumaphos in beehives to control varroa mite and the small hive beetle); January 30, 2007 to February 1, 2008. Contact: Stacey Groce.

Maine

Department of Agriculture, Food, and Rural Resources

Specific Exemption: EPA authorized the use of coumaphos in beehives to control varroa mite and the small hive beetle); February 28, 2007 to February 1, 2008. Contact: Stacey Groce.

Michigan

Michigan Department of Agriculture

Specific Exemption: EPA authorized the use of zoxamide on ginseng to control Phytophthora blight; February 1, 2007 to October 31, 2007. Contact: Stacey Groce.

EPA authorized the use of coumaphos in beehives to control varroa mite and the small hive beetle); February 5, 2007 to February 1, 2008. Contact: Stacey Groce.

EPA authorized the use of chlorothalonil on ginseng to control Botrytis blight and Alternaria stem and leaf blight); February 9, 2007 to October 31, 2007. Contact: Stacey Groce.

EPA authorized the use of thiophanate-methyl in mushroom cultivation, to control green mold (Trichoderma aggresivum); March 1, 2007 to March 1, 2008. Contact: Andrea Conrath.

EPA authorized the use of oxytetracycline on apples to control fire blight; April 1, 2007 to June 30, 2007. Contact: Andrew Ertman.

EPA authorized the use of tebuconazole on asparagus to control rust (Puccinia spp.); May 1, 2007 to November 1, 2007. Contact: Libby Pemberton.

EPA authorized the use of sulfentrazone on strawberries to control broadleaf weeds; June 25, 2007 to December 15, 2007. Contact: Andrew Ertman.

Quarantine Exemption: EPA authorized the use of flutriafol on soybeans to control soybean rust; February 12, 2007 to February 12, 2010. Contact: Princess Campbell.

Minnesota

Department of Agriculture

Specific Exemption: EPA authorized the use of coumaphos in beehives to control varroa mite and the small hive beetle); January 30, 2007 to February 1, 2008. Contact: Stacey Groce.

EPA authorized the use of fenpyroximate in beehives to control varroa mites); March 22, 2007 to February 28, 2008. Contact: Stacey Groce.

EPA authorized the use of lambda-cyhalothrin on wild rice to control rice worms; August 1, 2007 to September 10, 2007. Contact: Andrew Ertman.

Quarantine Exemption: EPA authorized the use of flusilazole on soybeans to control Australasian soybean rust; February 7, 2007 to February 7, 2010. Contact: Andrea Conrath.

Mississippi

Department of Agriculture and Commerce

Specific Exemption: EPA authorized the use of coumaphos in beehives to control varroa mite and the small hive beetle); January 30, 2007 to February 1, 2008. Contact: Stacey Groce.

EPA authorized the use of sulfosulfuron on bermudagrass and bahiagrass pastures and hayfields to control Johnsongrass (Sorghum halepense); February 16, 2007 to September 15, 2008. Contact: Libby Pemberton.

Missouri

Department of Agriculture

Specific Exemption: EPA authorized the use of coumaphos in beehives to control varroa mite and the small hive beetle); March 22, 2007 to February 1, 2008. Contact: Stacey Groce.

Quarantine Exemption: EPA authorized the use of flutriafol on soybeans to control soybean rust; February 12, 2007 to February 12, 2010. Contact: Princess Campbell.

Montana

Department of Agriculture

Specific Exemption: EPA authorized the use of coumaphos in beehives to control varroa mite and the small hive beetle); January 30, 2007 to February 1, 2008. Contact: Stacey Groce.

EPA authorized the use of thiabendazole on lentils, to control Ascochyta blight; February 21, 2007 to June 1, 2007. Contact: Andrea Conrath.

Nebraska

Department of Agriculture

Specific Exemption: EPA authorized the use of fenpyroximate in beehives to control varroa mites); February 28, 2007 to February 28, 2008. Contact: Stacey Groce.

Quarantine Exemption: EPA authorized the use of flutriafol on soybeans to control soybean rust; February 12, 2007 to February 12, 2010. Contact: Princess Campbell.

New Jersey

Department of Environmental Protection

Specific Exemption: EPA authorized the use of thiophanate-methyl on tomatoes to control white mold; April 1, 2007 to October 31, 2007. Contact: Andrew Ertman..

New York

Department of Environmental Conservation

Specific Exemption: EPA authorized the use of coumaphos in beehives to control varroa mite and the small hive beetle); January 30, 2007 to February 1, 2008. Contact: Stacey Groce.

EPA authorized the use of fenpyroximate in beehives to control varroa mites); March 22, 2007 to February 28, 2008. Contact: Stacey Groce.

Nevada

Department of Agriculture

Specific Exemption: EPA authorized the use of bifenazate on Timothy grass, to control Banks Grass Mite; March 16, 2007 to September 1, 2007. Contact: Andrea Conrath.

North Carolina

Department of Agriculture

Specific Exemption: EPA authorized the use of coumaphos in beehives to control varroa mite and the small hive beetle); February 12, 2007 to February 1, 2008. Contact: Stacey Groce.

North Dakota

Department of Agriculture

Specific Exemption: EPA authorized the use of thiabendazole on lentils, to control Ascochyta blight; February 21, 2007 to June 1, 2007. Contact: Andrea Conrath.

EPA authorized the use of coumaphos in beehives to control varroa mite and the small hive beetle); March 12, 2007 to February 1, 2008. Contact: Stacey Groce.

EPA authorized the use of fenpyroximate in beehives to control varroa mites); March 22, 2007 to February 28, 2008. Contact: Stacey Groce.

Ohio

Department of Agriculture

Specific Exemption: EPA authorized the use of coumaphos in beehives to control varroa mite and the small hive beetle); March 12, 2007 to February 1, 2008. Contact: Stacey Groce.

EPA authorized the use of thiophanate-methyl on fruiting vegetables, to control white mold (Sclerotinia sclerotiorum); March 30, 2007 to September 30, 2007. Contact: Andrea Conrath.

EPA authorized the use of sulfentrazone on strawberries to control broadleaf weeds; June 20, 2007 to December 15, 2007. Contact: Andrew Ertman.

Oklahoma

Department of Agriculture

Specific Exemption: EPA authorized the use of coumaphos in beehives to control varroa mite and the small hive beetle); March 12, 2007 to February 1, 2008. Contact: Stacey Groce.

Quarantine Exemption: EPA authorized the use of flutriafol on soybeans to control soybean rust; February 12, 2007 to February 12, 2010. Contact: Princess Campbell.

Oregon

Department of Agriculture

Specific Exemption: EPA authorized the use of thiabendazole on lentils, to control Ascochyta blight; February 21, 2007 to June 1, 2007. Contact: Andrea Conrath.

EPA authorized the use of sulfentrazone on strawberries to control broadleaf weeds; March 22, 2007 to February 28, 2008. Contact: Andrew Ertman.

EPA authorized the use of fenpyroximate in beehives to control varroa mites); March 22, 2007 to February 28, 2008. Contact: Stacey Groce.

EPA authorized the use of mesotrione on cranberry to control bog St. John's Wort (Hypericum boreala), rushes (Juncus Canadensis, J. effuses, J. Bufonlus,J. Tenuis), sedges spp. (Carex spp.), yellow loosestrife (Lysimachia terrestris),and silverleaf (Potentilla pacifica); March 30, 2007 to October 15, 2007. Contact: Libby Pemberton.

EPA authorized the use of oxytetracycline on apples to control fire blight; April 1, 2007 to August 1, 2007. Contact: Andrew Ertman.

Pennsylvania

Department of Agriculture

Specific Exemption: EPA authorized the use of thiophanate-methyl in mushroom cultivation, to control green mold (Trichoderma aggresivum); January 8, 2007 to January 8, 2008. Contact: Andrea Conrath.

EPA authorized the use of coumaphos in beehives to control varroa mite and the small hive beetle); January 30, 2007 to February 1, 2008. Contact: Stacey Groce.

South Carolina

Clemson University

Specific Exemption: EPA authorized the use of coumaphos in beehives to control varroa mite and the small hive beetle); April 3, 2007 to February 1, 2008. Contact: Stacey Groce.

South Dakota

Department of Agriculture

Quarantine Exemption: EPA authorized the use of flusilazole on soybeans to control Australasian soybean rust; February 7, 2007 to February 7, 2010. Contact: Andrea Conrath.

Tennessee

Department of Agriculture

Specific Exemption: EPA authorized the use of coumaphos in beehives to control varroa mite and the small hive beetle); March 12, 2007 to February 1, 2008. Contact: Stacey Groce.

Quarantine Exemption: EPA authorized the use of flutriafol on soybeans to control soybean rust; February 12, 2007 to February 12, 2010. Contact: Princess Campbell.

Texas

Department of Agriculture

Crisis Exemption: On March 20, 2007, for the use of fenpyroximate in beehives to control varroa mites. This program is expected to end on February 28, 2008. Contact: Stacey Groce.

Specific Exemption: EPA authorized the use of coumaphos in beehives to control varroa mite and the small hive beetle); February 12, 2007 to February 1, 2008. Contact: Stacey Groce.

Virginia

Department of Agriculture and Consumer Services

Specific Exemption: EPA authorized the use of coumaphos in beehives to control varroa mite and the small hive beetle); March 12, 2007 to February 1, 2008. Contact: Stacey Groce.

Washington

Department of Agriculture

Specific Exemption: EPA authorized the use of thiabendazole on lentils, to control Ascochyta blight; February 13, 2007 to June 1, 2007. Contact: Andrea Conrath.

EPA authorized the use of coumaphos in beehives to control varroa mite and the small hive beetle); February 23, 2007 to February 1, 2008. Contact: Stacey Groce.

EPA authorized the use of fenpyroximate in beehives to control varroa mites); March 22, 2007 to February 28, 2008. Contact: Stacey Groce.

EPA authorized the use of sulfentrazone on strawberries to control broadleaf weeds; March 22, 2007 to February 28, 2008. Contact: Andrew Ertman.

EPA authorized the use of mesotrione on cranberry to control bog St. John's wort (Hypericum boreala), rushes (Juncus Canadensis, J. effuses, J. Bufonlus,J. Tenuis), sedges spp. (Carex spp.), yellow loosestrife (Lysimachia terrestris),and silverleaf (Potentilla pacifica); March 30, 2007 to October 31, 2007. Contact: Libby Pemberton.

EPA authorized the use of oxytetracycline on apples to control fire blight; April 1, 2007 to August 1, 2007. Contact: Andrew Ertman.

Wisconsin

Department of Agriculture, Trade, and Consumer Protection

Specific Exemption: EPA authorized the use of mancozeb on ginseng to control Alternaria stem and leaf blight); January 31, 2007 to October 31, 2007. Contact: Stacey Groce.

EPA authorized the use of zoxamide on ginseng to control Phytophthora blight ; February 1, 2007 to October 31, 2007. Contact: Stacey Groce.

EPA authorized the use of chlorothalonil on ginseng to control Botrytis blight and Alternaria stem and leaf blight; March 2, 2007 to October 31, 2007. Contact: Stacey Groce.

EPA authorized the use of sulfentrazone on strawberries to control broadleaf weeds; June 20, 2007 to December 15, 2007. Contact: Andrew Ertman.

B. Federal Departments and Agencies

Department of Agriculture

Quarantine Exemption: EPA authorized the use of ethylene oxide on animal isolators to inactivate all microbes; January 30, 2007 to January 30, 2009. Contact: Princess Campbell.

Animal and Plant Health Inspector Service

Crisis Exemption: On March 2, 2007, for the use of methyl bromide on avocados, bananas, plantains, blackberries, raspberries, certain cucurbit vegetables and edible seeds, fresh herbs and spices, kiwi, certain leafy vegetables, longan, lychee fruit, fresh and dried mint, opuntia, rambutan, certain root and tuber vegetables, and snow peas to control exotic pests. This program is expected to end on March 3, 2008. Contact: Libby Pemberton.

List of Subjects

Environmental protection, Pesticides and pests.

Dated: August 9, 2007.
Donald R. Stubbs,
Acting Director, Registration Division, Office of Pesticide Programs.

FR Doc. E7-16452 Filed 8-21-07; 8:45 am

BILLING CODE 6560-50-S